DEPARTMENT OF ENERGY

Extension of Public Comment Period on the Draft Global Nuclear Energy Partnership Programmatic Environmental Impact Statement

AGENCY: Office of Nuclear Energy, U.S. Department of Energy.

ACTION: Notice of extension of public comment period.

SUMMARY: On October 17, 2008, DOE published a Notice of Availability and Public Hearings (73 FR 61845) for the Draft Global Nuclear Energy Partnership Programmatic Environmental Impact Statement (Draft GNEP PEIS, DOE/EIS-0396). That notice commenced a 60-day public comment period and provided the schedule for 13 public hearings to receive comments on the Draft GNEP PEIS. Today, DOE announces an extension of the public comment period by 90 days. The public comment period on the Draft GNEP PEIS will end March 16, 2009.

FOR FURTHER INFORMATION CONTACT: Please direct questions regarding the extension of the public comment period, requests for additional information, or requests for copies of the Draft GNEP PEIS to Mr. Francis Schwartz, GNEP PEIS Document Manager, Office of Nuclear Energy (NE-5), U.S. Department of Energy, 1000 Independence Avenue, SW., Washington, DC 20585. Questions also may be telephoned, toll free, to 1-866-645-7803.

For general information regarding the DOE NEPA process contact: Ms. Carol M. Borgstrom, Director, Office of NEPA Policy and Compliance (GC-20), U.S. Department of Energy, 1000 Independence Avenue, SW., Washington, DC 20585, telephone 202-586-4600, or leave a message at 1-800-472-2756. Additional information regarding DOE NEPA activities and access to many of DOE's NEPA documents are available on the Internet through the DOE NEPA Web site at http://www.gc.energy.gov/NEPA.

SUPPLEMENTARY INFORMATION: On October 17, 2008, DOE published a Notice of Availability and Public Hearings (73 FR 61845) for the Draft Global Nuclear Energy Partnership Programmatic Environmental Impact Statement (Draft GNEP PEIS, DOE/EIS-0396). That notice commenced a 60-day public comment period and provided the schedule for 13 public hearings to receive comments on the Draft GNEP PEIS. Today, DOE announces an extension of the public comment period by 90 days.

In response to public requests, DOE is extending the comment period by 90 days to allow for additional review and comment on the Draft GNEP PEIS. DOE invites comments on the Draft GNEP PEIS during the public comment period, which ends on March 16, 2009. DOE will consider comments received after this date to the extent practicable as it prepares the Final GNEP PEIS.

Written comments on the Draft GNEP PEIS should be submitted to Mr. Francis Schwartz, GNEP PEIS Document Manager, Office of Nuclear Energy (NE-5), U.S. Department of Energy, 1000 Independence Ave, SW., Washington, DC 20585, by facsimile to 866-489-1891, or electronically through http://www.regulations.gov. Please mark correspondence “Draft GNEP PEIS Comments.” Additional information regarding commenting on the Draft GNEP PEIS may be found at http://www.gnep.energy.gov/peis/commenting.html.

The Draft GNEP PEIS and supporting references are available in public reading rooms (listed below) and on the Internet at http://www.gnep.energy.gov. In addition, the Draft GNEP PEIS is available on the Internet at http://www.regulations.gov and on the DOE NEPA Web site at http://www.gc.energy.gov/NEPA.

U.S. Department of Energy, FOIA/Privacy Act Group, 1000 Independence Avenue, SW., Washington, DC 20585, Phone: (202) 586-3142;

Carlsbad Field Office, U.S. Department of Energy, WIPP Information Center, 4021 National Parks Highway, PO Box 2078, Carlsbad, New Mexico 88220, Phone: 1-800-336-WIPP;

Chicago Operations Office, U.S. Department of Energy, Office of Science Public Reading Room, Document Department, University Library, The University of Illinois at Chicago, 801 South Morgan Street, 3rd Floor Center, Chicago, Illinois 60607, DOE Contact: Gary Pitchford, Phone: (630) 252-2013;

Idaho Operations Office, U.S. Department of Energy, Public Reading Room, 1776 Science Center Drive, Idaho Falls, Idaho 83415-2300, Reading Room Contact: Gail Willmore, Phone: (208) 526-9162;

Paducah Gaseous Diffusion Plant, Department of Energy, Environmental Information Center and Reading Room, 115 Memorial Drive, Barkley Centre, Paducah, Kentucky 42001, Phone: (270) 554-6979;

Los Alamos Site Office, LANL Research Library, Technical Area 3, Building 207, Los Alamos, New Mexico 87545, Phone: (505) 667-5809;

Oak Ridge Operations Office, DOE Oak Ridge Information Center, 475 Oak Ridge Turnpike, Oak Ridge, Tennessee 37830, Phone: (865) 241-4780 or (toll-free) 1(800) 382-6938, option 6;

Richland Operations Office, U.S. Department of Energy, Public Reading Room, MSIN H2-53, P.O. Box 999, Richland, Washington 99352, Contact: Terri Traub, Phone: (509) 372-7443;

Savannah River Operations Office, U.S. Department of Energy, Public Reading Room, 471 University Parkway, Aiken, South Carolina 29801, Contact: Paul Lewis, Phone: (803) 641-3320;

Albuquerque Operations Office, FOIA Reading Room and DOE Reading Rooms, Government Information Department, Zimmerman Library, University of New Mexico, Albuquerque, New Mexico 87131-1466, Contact: Dan Barkley, Phone: (505) 277-7180;

Portsmouth Gaseous Diffusion Plant, Department of Energy, Environmental Information Center, 1862 Shyville Road, Room 220, Piketon, Ohio 45661.

Issued in Washington, DC on December 4, 2008.
Dennis R. Spurgeon,
Assistant Secretary for Nuclear Energy.

[FR Doc. E8-29238 Filed 12-9-08; 8:45 am]

BILLING CODE 6450-01-P